DEPARTMENT OF TRANSPORTATION

Coast Guard

[USCG-2001-9255]

Navigation Safety Advisory Council

AGENCY: Coast Guard, DOT.

ACTION: Notice of meeting.

SUMMARY: The Navigation Safety Advisory Council (NAVSAC) and its High Speed Craft and Rules of the Road Subcommittees will meet to discuss various issues relating to the safety of navigation. The meetings are open to the public.

DATES: NAVSAC will meet in plenary session on Tuesday, April 17, 2001, from 9:30 a.m. to 5 p.m., and on Thursday, April 19, 2001, from 8 a.m. 3 p.m. The High Speed Craft and Rules of the Road Subcommittees will meet on Wednesday, April 18, 2001, from 8 a.m. to 4 p.m. The meetings may close early if all business is finished. Written material and requests to make oral presentations should reach the Coast Guard on or before April 6, 2001. Requests to have material distributed to each member of the Council prior to the meeting should reach the Coast Guard on or before April 4, 2001.

ADDRESSES: NAVSAC will meet at The Westin Francis Marion Hotel, 387 King Street, Charleston, SC 29403. Send written material and requests to make oral presentations to Ms. Margie G. Hegy, Commandant (G-MW), U.S. Coast Guard Headquarters, 2100 Second Street SW., Washington, DC 20593-0001. This notice is available on the Internet at http://dms.dot.gov.

FOR FURTHER INFORMATION CONTACT: Ms. Margie G. Hegy, Executive Director of NAVSAC, telephone 202-267-0415, fax 202-267-4700.

SUPPLEMENTARY INFORMATION: Notice of this meeting is given under the Federal Advisory Committee Act, 5 U.S.C. App. 2.

Agenda of Meetings

Navigation Safety Advisory Council (NAVSAC). The agenda includes the following:

(1) Introduction and swearing-in of new members.

(2) Update on the Marine Transportation System (MTS) Initiative.

(3) Business Plan Development for NAVSAC 2001.

(4) Review of Process for Considering Human Element in Deliberations.

(5) Report of Ad Hoc Piracy Working Group.

High Speed Craft (HSC) Subcommittee. The agenda includes the following:

(1) Definition of HSC.

(2) High-speed recreational boats.

(3) Training and Manning of HSC.

(4) HSC from the Perspective of Slower Vessels that Encounter Them.

Rules of the Road Subcommittee. The agenda includes the following:

(1) Responsibility of Vessels “Under Oars”.

(2) Lighting Requirements for Moored Barges and Barges Underway.

You may request a copy of the agenda from Ms. Hegy at the number listed in FOR FURTHER INFORMATION CONTACT.

Procedural

All meetings are open to the public. Please note that the meetings may close early if all business is finished. At the Chair's discretion, members of the public may make oral presentations during the meetings. If you would like to make an oral presentation, please notify the Executive Director no later than April 6, 2001. Written material for distribution at a meeting should reach the Coast Guard no later than April 6, 2001. If you would like a copy of your material distributed to each member of the Council in advance of the meeting, please submit 25 copies to the Executive Director no later than April 4, 2001.

Information on Services for Individuals With Disabilities

For information on facilities or services for individuals with disabilities or to request special assistance at the meetings, contact the Executive Director as soon as possible.

Dated: March 23, 2001.
R.C. North,
Rear Admiral, U.S. Coast Guard, Assistant Commandant for Marine Safety and Environmental Protection.

[FR Doc. 01-7950 Filed 3-27-01; 3:30 pm]

BILLING CODE 4910-15-U